DEPARTMENT OF THE INTERIOR

Bureau of Land Management

[OR-015-1610-DQ; GP-02-0233]

Notice of Availability for the Lakeview Proposed Resource Management Plan and Final Environmental Impact Statement

AGENCY: Lakeview District (Oregon), Bureau of Land Management.

ACTION: Notice of availability for the Lakeview Proposed Resource Management Plan (PRMP) and Final Environmental Impact Statement (FEIS).

SUMMARY: In accordance with the Federal Land Policy and Management Act (FLPMA) and the National Environmental Policy Act (NEPA), the Bureau of Land Management (BLM) intends to make the PRMP/FEIS available for public review and comment. This planning activity encompasses approximately 3.2 million acres of public land managed by the Lakeview Resource Area, Lakeview District, located in Lake and Harney Counties in southeastern Oregon. In addition, a small, contiguous portion of Modoc and Washoe Counties located in northeastern California and northwestern Nevada, falling within the administrative boundary of the Surprise Field Office in Cedarville, California, but managed by the Lakeview Resource Area is also included for analysis purposes. The BLM has and will continue to work closely with all interested parties to identify management decisions that are best suited to the needs of the public. Final decisions will supercede the High Desert, Warner Lakes, and Lost River Management Framework Plans and provide direction for management of these public lands for approximately 20 years.

DATES: The public has the opportunity to protest the Proposed Resource Management Plan. The BLM Planning Regulations, 43 CFR 1610.5-2, state that any person who participated in the planning process and has an interest which may be adversely affected may protest. A protest may raise only those issues which were submitted for the record during the planning process. Any protests must be filed within 30 days of the date the Environmental Protection Agency publishes its notice of availability of the Final Environmental Impact Statement. Specific dates of the protest period will be announced through the local news media, letters or postcards, and the BLM web site (see the internet address below). Written protests may be submitted during the protest period at the following address: Director (210), Bureau of Land Management, Attention: Brenda Williams, P.O. Box 66538, Washington, DC 20035. To be considered timely, your protest must be postmarked no later than the last day of the protest period. Though not a requirement, we suggest that you send your protest by certified mail, return receipt requested. In addition you can use the overnight address (FedEX or USPS) as an option for next day delivery: Director (210), Bureau of Land Management, Attention: Brenda Williams, 1620 L Street, NW., Suite 1075, Washington, DC 20036. You are also encouraged, but not required, to forward a copy of your protest to the Lakeview District Manager at the address listed below. This may allow us to resolve the protest through clarification of intent or alternative dispute resolution methods. To be considered complete, your protest must contain (at a minimum) the following information:

(1) Name, mailing address, telephone number and the affected interest of the person filing the protest(s).

(2) A statement of the issue or issues being protested.

(3) A statement of the part or parts of the proposed plan being protested. To the extent possible, reference specific pages, paragraphs, and sections of the document.

(4) A copy of all your documents addressing the issue or issues which were discussed with the BLM for the record.

(5) A concise statement explaining why the proposed decision is believed to be incorrect. This is a critical part of your protest. Document all relevant facts, as much as possible. A protest that merely expresses disagreement with the State Director's proposed decision without providing any supporting data will not be considered a valid protest.

FOR FURTHER INFORMATION: Contact Paul Whitman, Bureau of Land Management, 1301 South G Street, Lakeview, Oregon 97630. Telephone (541-947-2177), Fax (541-947-6399), e-mail (pwhitman@or.blm.gov). Documents pertinent to this proposal may be examined at the Lakeview Resource Area office in Lakeview, Oregon during regular business hours (7:45 a.m. to 4:30 p.m., Monday through Friday, except holidays). Interested persons may also review the PRMP/FEIS on the Internet at www.or.blm.gov/Lakeview/Planning. A hard copy or a CD-ROM of the document may be requested at the address and phone number above.

SUPPLEMENTARY INFORMATION: This land use plan focuses on the principles of multiple use management and sustained yield as prescribed by section 202 of the FLPMA. The Proposed RMP/FEIS considers and analyzes five alternatives. These alternatives have been developed based on extensive public input following scoping (July 1999), review of the summary of the Analysis of the Management Situation (July 2000), review and comment on the Draft RMP/EIS (October 2001-January 2002), and numerous meetings with local governments, tribes and the Southeast Oregon Resource Advisory Council. The alternatives provide for a wide array of alternative land use allocations and management direction. The alternatives provide for variable levels of commodity production, resource protection, and authorized land and resource uses, including utility corridors, energy and non-energy mineral leasing, livestock grazing and various forms of recreation. Alternative D (as modified by public comment on the Draft RMP/EIS) provides a balance of resource uses and protection and is identified as the agency's Proposed Plan. An Approved RMP/Record of Decision is expected to be available for public review in late 2002 after resolution of any protests.

Dated: May 15, 2002.
Scott R. Florence,
Field Manager, Lakeview Resource Area.

[FR Doc. 03-611 Filed 1-10-03; 8:45 am]

BILLING CODE 4310-33-P